SELECTIVE SERVICE SYSTEM

Form To Be Submitted to the Office of Management and Budget for Extension of Clearance

AGENCY: Selective Service System.

ACTION: Notice.

The following form will be submitted to the Office of Management and Budget (OMB) for extension of clearance without change in compliance with the Paperwork Reduction Act (44 U.S.C. chapter 35):

SSS Form 750

Title: Request for a Medical Exception to the COVID-19 Vaccination Requirement.

Summary: Per Executive Order 14043, Requiring Coronavirus Disease 2019 Vaccination for Federal Employees, and guidance from the Safer Federal Workforce Task Force, the Selective Service System (SSS) created and received emergency clearance for the Agency's Request for a Medical Exception to the COVID-19 Vaccination Requirement form. This form is for SSS employees requesting a medical exception to the vaccine requirements. The current form is only valid for six months. In anticipation of future requests from its employees, the SSS is seeking an extension of this currently approved collection.

Respondents: SSS employees and their personal medical providers.

Frequency: Completion is a one-time occurrence.

Burden: A burden of 30 minutes or less on the individual respondent.

SUPPLEMENTARY INFORMATION: The vaccination requirement issued pursuant to E.O. 14043, is currently the subject of a nationwide injunction. While that injunction remains in place, Selective Service System will not process requests for a medical exception from the COVID-19 vaccination requirement pursuant to E.O. 14043. Selective Service System will also not request the submission of any medical information related to a request for an exception from the vaccination requirement pursuant to E.O. 14043 while the injunction remains in place. But Selective Service System may nevertheless receive information regarding a medical exception. That is because, if Selective Service System were to receive a request for an exception from the COVID-19 vaccination requirement pursuant to E.O. 14043 during the pendency of the injunction, Selective Service System will accept the request, hold it in abeyance, and notify the employee who submitted the request that implementation and enforcement of the COVID-19 vaccination requirement pursuant to E.O. 14043 is currently enjoined and that an exception therefore is not necessary so long as the injunction is in place. In other words, during the pendency of the injunction, any information collection related to requests for medical exception from the COVID-19 vaccination requirement pursuant to E.O. 14043 is not undertaken to implement or enforce the COVID-19 vaccination requirement.

Copies of the above identified form can be obtained upon written request to the Selective Service System, IT Directorate, 1515 Wilson Boulevard, Arlington, Virginia 22209-2425.

Written comments and recommendations for the proposed extension of clearance without change of the form should be sent within 60 days of the publication of this notice to the Selective Service System, Mr. Daniel Mira, Senior Agency Official for Privacy, 1515 Wilson Boulevard, Arlington, Virginia 22209-2425. A copy of the comments should be sent to the Office of Information and Regulatory Affairs, Attention: Desk Officer, Selective Service System, Office of DC 20503.

Daniel Mira,
Deputy Chief Information Officer, Senior Agency Official for Privacy.

[FR Doc. 2022-03773 Filed 2-22-22; 8:45 am]

BILLING CODE 8015-01-P